DEPARTMENT OF HEALTH AND HUMAN SERVICES

Health Resources and Services Administration

Notice of Class Deviation From Competition Requirements for HRSA-15-021: Quality Improvement Capacity for Impact Project

AGENCY: Health Resources and Services Administration (HRSA), Department of Health and Human Services.

ACTION: Notice.

SUMMARY: HRSA is providing supplemental funding for one year to the current recipients of HRSA-15-021, Quality Improvement Capacity for Impact Project.

FOR FURTHER INFORMATION CONTACT: Austin Demby, Ph.D., MPH, Acting Director,

Office of Global Health, Office of the Administrator, HRSA, 5600 Fishers Lane, 09N09, Rockville, MD 20857, Phone: (301) 443-0581, Email: ademby@hrsa.gov.

SUPPLEMENTARY INFORMATION:

Recipients of the Award: The Regents of the University of California San Francisco (UCSF-U1NHA31422) and the Trustees of Columbia University in the City of New York (ICAP-U1NHA28555).

Amount of Award: HRSA has awarded two grants totaling $6 million noted in Table 1.

Period of Supplemental Funding: September 30, 2020—September 29, 2021,

CFDA Number: 93.266

Table 1—Recipients and Award Amounts
Grant number | Award recipient name | Extension length | Award amount
UCSF-U1NHA31422 | The Regents of the University of California San Francisco | 1 Year | $4,000,000
ICAP-U1NHA28555 | Trustees of Columbia University in the City of New York | 1 Year | 2,000,000

Justification: The purpose of these cooperative agreements is to save lives, prevent HIV infections, and accelerate progress toward achieving HIV/AIDS epidemic control in more than 50 countries around the world. Recipients have completed certain project activities, but evaluation and transition to scale-up has been interrupted by the COVID-19 pandemic and associated country-specific restrictions. This notice extends the current project period for HRSA-15-021, Quality Improvement Capacity for Impact Project, by one year until September 29, 2021, to ensure the orderly conclusion of these projects while facilitating virtual stakeholder engagement during the COVID-19 pandemic.

Authority: United States President's Emergency Plan for AIDS Relief authorized by Public Law 108-25 (the United States Leadership Against HIV/AIDS, Tuberculosis and Malaria Act of 2003) [22 U.S.C. 7601, et seq.]; and Public Law 110-293 (the Tom Lantos and Henry J. Hyde United States Global Leadership Against HIV/AIDS, Tuberculosis, and Malaria Reauthorization Act of 2008), as reauthorized and amended by Public Law 113-56 (the President's Emergency Plan for AIDS Relief Stewardship and Oversight Act of 2013). See, e.g., 22 U.S.C. 7603 and 22 U.S.C. 2151b-2(b) (1)(B), 2151b-2(c)(1), and 2151b-2(d)(6)(G)(ii).

Thomas J. Engels,
Administrator.

[FR Doc. 2020-21778 Filed 10-1-20; 8:45 am]

BILLING CODE 4165-15-P